ENVIRONMENTAL PROTECTION AGENCY

[IL 215-1; FRL-7391-9]

Notice of Final Determination for the Carlton LLC, North Shore Power Plant, City of Zion, Lake County, IL

AGENCY: Environmental Protection Agency (EPA).

ACTION: Notice of final action.

SUMMARY: This notice announces that on February 28, 2001, the Environmental Appeals Board (EAB) of the EPA dismissed a petition for review of a permit issued for the Carlton, Inc. North Shore Power Plant (Carlton) by the Illinois Environmental Protection Agency (Illinois EPA) pursuant to the regulations under Illinois' minor New Source Review (NSR) program. The EAB dismissed the petition for lack of jurisdiction to review the permit.

DATES: The effective date for the EAB's decision is February 28, 2001. Judicial review of this permit decision, to the extent it is available pursuant to section 307(b)(1) of the Clean Air Act, may be sought by filing a petition for review in the United States Court of Appeals for the Seventh Circuit within 60 days of October 7, 2002.

ADDRESSES: The documents relevant to the above action are available for public inspection during normal business hours at the following address: Environmental Protection Agency, Region 5, 77 West Jackson Boulevard (AR-18J), Chicago, Illinois 60604. To arrange viewing of these documents, call Jorge Acevedo at (312) 886-2263.

FOR FURTHER INFORMATION CONTACT: Jorge Acevedo, Environmental Protection Agency, Region 5, 77 W. Jackson Boulevard (AR-18J), Chicago, Illinois 60604. Anyone who wishes to review the EAB decision can obtain it at http://www.epa.gov/eab/disk11/carlton.pdf.

SUPPLEMENTARY INFORMATION: This supplemental information is organized as follows:

A. What Action is EPA Taking?

B. What is the Background Information?

C. What did EPA Determine?

A. What Action Is EPA Taking?

We are notifying the public of a final decision by EPA's EAB on a permit issued by Illinois EPA pursuant to Illinois' minor NSR program.

B. What Is the Background Information?

On November 10, 2000, Illinois EPA issued a construction permit 99120057 to Carlton for the construction of either three General Electric (GE) frame 7FA simple cycle turbines with a nominal capacity of 187 megawatts each, or six GE Frame 7EA simple cycle turbines with a nominal capacity of 98.2 megawatts each. The proposed turbines would fire only natural gas and would be required to use dry low oxides of nitrogen combusters. On December 11, 2000, Verena Owen and the Lake County Conservation Alliance (LCCA) filed a petition for review stating that the proposed facility was not a minor source, but in fact a major source of Carbon Monoxide, Nitrogen Oxides, Volatile Organic Materials, and Hazardous Air Pollutants and should be subject to the appropriate regulations. Illinois EPA filed a motion to dismiss the petition on January 5, 2001, in which it argued that the EAB lacked jurisdiction to review Illinois EPA's permit decision because the permit issued to Carlton was issued under Illinois EPA's minor NSR program, rather than the Federal PSD program. On January 22, 2001, the EAB issued an order requesting EPA's Office of General Counsel (OGC) prepare an amicus brief on the issue of whether the EAB has jurisdiction over this matter. OGC subsequently filed an amicus brief advancing the view that the EAB is without jurisdiction in this case.

C. What Did the EAB Determine?

On February 28, 2001, the EAB denied the petition for review based on the grounds of lack of jurisdiction. The EAB stated that their jurisdiction is limited to permits issued under federal regulations and it does not extend to appeals of state-issued minor NSR permits in approved States.

Dated: September 24, 2002.
Bharat Mathur,
Acting Regional Administrator, Region 5.

[FR Doc. 02-25421 Filed 10-4-02; 8:45 am]

BILLING CODE 6560-50-P